DEPARTMENT OF THE INTERIOR

Bureau of Land Management

[LLUT030000-L17110000-PH0000-24-1A]

Grand Staircase-Escalante National Monument Monument Advisory Committee; Meeting/Conference Call

AGENCY: Bureau of Land Management, Interior.

ACTION: Notice of Meeting/Conference.

SUMMARY: In accordance with the Federal Land Policy and Management Act (FLPMA) and the Federal Advisory Committee Act of 1972 (FACA), the Department of the Interior, Bureau of Land Management (BLM), Grand Staircase-Escalante National Monument (GSENM) Monument Advisory Committee (MAC) will host a meeting/conference call.

DATES: The GSENM MAC will host a meeting/conference call on Tuesday, Sept. 24, 2013, from 10 a.m.-12 p.m. MDT.

ADDRESSES: Those attending in person should meet at the GSENM Headquarters, 669 South Highway 89A, Kanab, Utah, in the Cottonwood Conference Room located off the lobby.

FOR FURTHER INFORMATION CONTACT: Public participants wishing to listen to the conference call, orally present material during the teleconference, or submit written material for the GSENM MAC to consider during the teleconference should notify Larry Crutchfield, Public Affairs Officer, Grand Staircase-Escalante National Monument, 669 South Highway 89A, Kanab, Utah 84741; phone (435) 644-1209; or email lcrutchf@blm.gov by Friday, Sept. 20, 2013. Persons who use a telecommunications device for the deaf (TDD) may call the Federal Information Relay Service (FIRS) at 1-800-877-8339 to leave a message or question with the above individual. The FIRS is available 24 hours a day, seven days a week. Replies will be received during normal business hours.

SUPPLEMENTARY INFORMATION: The 15-member GSENM MAC was appointed by the Secretary of the Interior on August 2, 2011, pursuant to the Monument Management Plan (MMP), FLPMA, and the Federal Advisory Committee Act of 1972. As specified in the MMP, the GSENM MAC has several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and, (4) Could be consulted on issues such as protocols for specific projects.

Topics to be discussed by the GSENM MAC during this meeting/conference call include review of the GSENM Campground and Day Use Business Plan, formulation of a land health subcommittee to assist with the development of the MMP amendment, future meeting dates and other matters as may reasonably come before the GSENM MAC. A public comment period will take place immediately following the business meeting. The meeting is open to the public; however, transportation, lodging, and meals are the responsibility of the participating public. The conference call will be recorded for purposes of minute-taking.

Authority: 43 CFR 1784.4-1.

Jenna Whitlock,
Associate State Director.

[FR Doc. 2013-19938 Filed 8-15-13; 8:45 am]

BILLING CODE 4310-DQ-P